DEPARTMENT OF THE INTERIOR

Bureau of Indian Affairs

[156A2100DD/AAKC001030/A0A501010.999900 253G]

Renewal of Agency Information Collection for Student Transportation Form

AGENCY: Bureau of Indian Affairs, Interior.

ACTION: Notice of request for comments.

SUMMARY: In compliance with the Paperwork Reduction Act of 1995, the Bureau of Indian Education (BIE) is seeking comments on the renewal of Office of Management and Budget (OMB) approval for the collection of information for Student Transportation Form. This information collection is currently authorized by OMB Control Number 1076-0134, which expires September 30, 2015.

DATES: Interested persons are invited to submit comments on or before October 14, 2015.

ADDRESSES: You may submit comments on the information collection to the Desk Officer for the Department of the Interior at the Office of Management and Budget, by facsimile to (202) 395-5806 or you may send an email to: OIRA_Submission@omb.eop.gov. Please send a copy of your comments to: Dr. Joe Herrin, Bureau of Indian Education, 1951 Constitution Avenue, MS-312-SIB, Washington, DC 20240; facsimile: (202) 208-3271; email: Joe.Herrin@BIE.edu.

FOR FURTHER INFORMATION CONTACT: Dr. Joe Herrin, phone: (202) 208-7658. You may review the information collection request online at http://www.reginfo.gov. Follow the instructions to review Department of the Interior collections under review by OMB.

SUPPLEMENTARY INFORMATION:

I. Abstract

The BIE is requesting renewal of OMB approval for the Student Transportation Form. The Student Transportation regulations in 25 CFR part 39, subpart G, contain the program eligibility and criteria that govern the allocation of transportation funds. Information collected from the schools will be used to determine the rate per mile. The information collection provides transportation mileage for Bureau-funded schools, which determines the allocation of transportation funds. This information is collected using a web-based system, Office of Indian Education Programs (OIEP) MultiWeb Intranet/WebET Intranet. Response is required to obtain a benefit.

II. Request for Comments

On June 10, 2015, the BIE published a notice announcing the renewal of this information collection and provided a 60-day comment period in the Federal Register (80 FR 32975). There were no comments received in response to this notice.

The BIE requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0134.

Title: Student Transportation Form, 25 CFR 39.

Brief Description of Collection: This annual collection provides pertinent data concerning the school's bus transportation mileage and related long distance travel mileage to determine funding levels for school transportation. This information is collected using the web-based system, OIEP MultiWeb Intranet/WebET Intranet and the Indian School Equalization Program (ISEP) Student Transportation form.

Type of Review: Extension without change of currently approved collection.

Respondents: Contract and Grant schools; Bureau-operated schools.

Number of Respondents: 183 per year, on average.

Total Number of Responses: 183 per year, on average.

Frequency of Response: Once per year.

Estimated Time per Response: 2 hours.

Estimated Total Annual Hour Burden: 366 hours.

Estimated Total Annual Non-Hour Dollar Cost: $0.

Elizabeth K. Appel,
Director, Office of Regulatory Affairs and Collaborative Action—Indian Affairs.

[FR Doc. 2015-22961 Filed 9-11-15; 8:45 am]

BILLING CODE 4337-15-P